DEPARTMENT OF THE INTERIOR

[DT64101000.DSB4A0000.T7AC00.24IA; OMB Control Number 1035-0003]

Agency Information Collection Activities; Application To Withdraw Tribal Funds From Trust Status, 25 CFR 1200

AGENCY: Office of Assistant Secretary-Indian Affairs, Bureau of Trust Funds Administration (formerly known as the Office of the Special Trustee for American Indians), Department of the Interior.

ACTION: Notice of information collection; request for comment.

SUMMARY: In accordance with the Paperwork Reduction Act of 1995, we, the Bureau of Trust Funds Administration (BTFA), are proposing to renew an information collection.

DATES: Interested persons are invited to submit comments on or before November 7, 2022.

ADDRESSES: Send written comments on this information collection request (ICR) by mail to Nina Alexander, Bureau of Trust Funds Administration, Director of Federal Information Resources, 4400 Masthead Street NE, Albuquerque, NM 87109; or by email to Nina_Alexander@btfa.gov. Please reference Office of Management and Budget (OMB) Control Number 1035-0003 in the subject line of your comments.

FOR FURTHER INFORMATION CONTACT: To request additional information about this ICR, contact Nina Alexander, Director, Federal Information Resources, Bureau of Trust Funds Administration at 4400 Masthead Street NE, Albuquerque, NM 87109; or by email at Nina_Alexander@btfa.gov or via telephone at 505-273-1620.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice (87 FR 35241) with a 60-day public comment period soliciting on this collection of information was published on June 9, 2022. No comments were received in response to that notice.

We are again soliciting comments on the proposed ICR that is described below. We are especially interested in public comment addressing the following: (1) Whether the collection of information is necessary for the proper performance of the functions of the BTFA, including whether or not the information will have practical utility; (2) The accuracy of our estimate of the burden for this collection of information, including the validity of the methodology and assumptions used; (3) Ways to enhance the quality, utility, and clarity of the information to be collected; and (4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: U.S.C. 25 chapter 42, sub-chapter 11, The American Indian Trust Fund Management Reform Act of 1994 (the Act) allows Indian Tribes on a voluntary basis to take their funds out of trust status within the Department of the Interior (and the Federal Government) in order to manage such funds on their own. 25 CFR part 1200, subpart B, section 1200.13, “How does a Tribe apply to withdraw funds?” describes the requirements for application for withdrawal. The Act generally covers all tribal trust funds including judgment funds as well as some settlements funds, but excludes funds held in Individual Indian Money accounts and Other Trust Funds. Both the Act and the regulations state that upon withdrawal of the funds, the Department of the Interior (and the Federal Government) have no further liability for such funds. Accompanying their application for withdrawal of trust funds, Tribes are required to submit a Management Plan for managing the funds being withdrawn, to protect the funds once they are out of trust status.

This information collection allows the BTFA to collect the Tribe's applications for withdrawal of funds held in trust by the Department of the Interior. If BTFA did not collect this information, the BTFA would not be able to comply with the Act, and Tribes would not be able to withdraw funds held for them in trust by the Department of the Interior.

Title of Collection: Application to Withdraw Tribal Funds from Trust Status, 25 CFR 1200.

OMB Control Number: 1035-0003.

Form Number: None.

Type of Review: Extension of a currently approved collection.

Respondents/Affected Public: Tribal governments.

Total Estimated Number of Annual Respondents: One respondent, on average, every three years.

Total Estimated Number of Annual Responses: 1.

Estimated Completion Time per Response: 750 hours.

Total Estimated Number of Annual Burden Hours: 750.

Respondent's Obligation: Required to obtain or maintain a benefit.

Frequency of Collection: One per Tribe per trust fund withdrawal application.

Total Estimated Annual Non-Hour Burden Cost: None.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2022-21873 Filed 10-6-22; 8:45 am]

BILLING CODE 4337-15-P